DEPARTMENT OF COMMERCE

Office of the Secretary

15 CFR Part 4

[Docket No. 050516131-5131-01]

RIN 0605-AA19

Disclosure of Government Information

AGENCY: Office of the Secretary, Department of Commerce.

ACTION: Final rule.

SUMMARY: This document amends the Department of Commerce's (Department) Privacy Act (PA) regulations (15 CFR Part 4) by adding an additional method of authorization to determine the identification of individuals seeking access to records under the Privacy Act, consistent with 28 U.S.C. 1746, which permits statements to be made under penalty of perjury as a substitute for notarization.

DATES: Effective February 27, 2008.

FOR FURTHER INFORMATION CONTACT: Brenda Dolan, 202-482-3258.

SUPPLEMENTARY INFORMATION: 15 CFR 4.24(d)(2) of the Department of Commerce's regulations implementing the Privacy Act (5 U.S.C. 552a) provides that individuals seeking access to their records under the Privacy Act must provide notarized proof of identity. In order to create an additional method of verifying identity, we are amending section 4.24(d)(2) to provide that statements made under penalty of perjury may be submitted as a substitute for notarization to determine the identification of individuals seeking access to records under the Privacy Act, consistent with 28 U.S.C. 1746.

Classification

It has been determined that this notice is not significant for purposes of E.O. 12866.

Administrative Procedure Act: The rulemaking requirements pursuant to 5 U.S.C. 553 do not apply to rules of agency organization, procedure or practice. This rule amends the Department's Privacy Act regulations by adding an additional method of authorization to determine the identification of individuals seeking access to records under the Privacy Act. Because this action addresses agency procedures and practice, the rulemaking requirements of the Administrative Procedure Act do not apply.

Regulatory Flexibility Act: Because notice and opportunity for comment are not required pursuant to 5 U.S.C. 553 or any other law, the analytical requirements of the Regulatory Flexibility Act (5 U.S.C. 601 et seq.) are inapplicable. Therefore, a regulatory flexibility analysis is not required and has not been prepared.

Paperwork Reduction Act: This document does not contain a collection-of-information requirement subject to the Paperwork Reduction Act (PRA). Notwithstanding any other provision of law, no person is required to respond to, nor shall any person be subject to a penalty for failure to comply with a collection of information subject to the Paperwork Reduction Act unless that collection displays a currently valid OMB Control Number.

List of Subjects in 15 CFR Part 4

Freedom of information, Privacy.

For the reasons set forth in the preamble, amend part 45 of title 14 of the Code of Federal Regulations as follows:

PART 4—DISCLOSURE OF GOVERNMENT INFORMATION

1. The authority citation for part 4 continues to read as follows:

Authority: 5 U.S.C. 301; 5 U.S.C. 552; 5 U.S.C. 552a; 5 U.S.C. 553; 31 U.S.C. 3717; 44 U.S.C. 3101; Reorganization Plan No. 5 of 1950.

§ 4.24 [Amended]

2. Amend § 4.24(d)(2) to revise to read as follows:

* * * * *

(d) * * *

(2) Not in person. If the individual making a request does not appear in person before a Privacy Officer or other employee authorized to determine identity, then identity must be determined by:

(i) A certification of a notary public or equivalent officer empowered to administer oaths must accompany the request under the circumstances prescribed in § 4.23(b)(9). The certification in or attached to the letter must be substantially in accordance with the following text:

City of ____ County of ____. (Name of individual), who affixed (his) (her) signature below in my presence, came before me, a (title), in and for the aforesaid County and State, this __ day of __, 20_, and established (his) (her) identity to my satisfaction. My commission expires ____.

Signature: ______.; or

(ii) Statement of identity made under 28 U.S.C. 1746, a law that permits statements to be made under penalty of perjury as a substitute for notarization.

* * * * *

Dated: February 20, 2008.
Brenda Dolan,
Departmental Freedom of Information and Privacy Act Officer.

[FR Doc. E8-3573 Filed 2-26-08; 8:45 am]

BILLING CODE 3510-17-P